DEPARTMENT OF COMMERCE

National Oceanic and Atmospheric Administration

[I.D. 102303C]

North Pacific Fishery Management Council; Notice of Public Meeting

AGENCY: National Marine Fisheries Service (NMFS), National Oceanic and Atmospheric Administration (NOAA), Commerce.

ACTION: Meetings of the North Pacific Fishery Management Council Improved Retention/Improved Utilization Technical Committee.

SUMMARY: The North Pacific Fishery Management Council (Council) Improved Retention/Improved Utilization Technical Committee will meet in Seattle, WA at the Alaska Fisheries Science Center.

DATES: The meetings will be held on November 18, 2003, 8 a.m.-5 p.m., and November 19, 2003, 8 a.m.-1 p.m.

ADDRESSES: These meetings will be held at the Alaska Fisheries Science Center, 7600 Sand Point Way NE, Building 1 (HR Conference Room), Seattle, WA 98115.

Council address: North Pacific Fishery Management Council, 605 W. 4th Ave., Suite 306, Anchorage, AK 99501-2252.

FOR FURTHER INFORMATION CONTACT: Council staff, Jon McCracken Phone: 907-271-2809.

SUPPLEMENTARY INFORMATION: The Committee is scheduled to discuss: (1) Impacts of splitting the Prohibited Species Catch (PSC) total Allowable Catch between the Bering Sea and Aleutian Islands, (2) options for treating underutilized or unallocated species, (3) adjustments of the PSC allocations to the Community Development Quota program if the groundfish allocations are changed, (4) methods for allocating PSC among sectors, (5) Pacific cod allocations and rollover issues (Component 9 of Amendment 80a), (6) harvest of pollock by the Non-American Fisheries Act trawl Catcher processor sector (Component 8 of Amendment 80b). The Committee may also address any other issues it deems necessary.

Although non-emergency issues not contained in this notice may come before these committees for discussion, those issues may not be the subject of formal action during these meetings. Action will be restricted to those issues specifically listed in this notice and any issues arising after publication of this notice that require emergency action under 305(c) of the Magnuson-Stevens Fishery Conservation and Management Act, provided the public has been notified of the Council's intent to take final actions to address such emergencies.

Special Accommodations

These meetings are physically accessible to people with disabilities. Requests for sign language interpretation or other auxiliary aids should be directed to Gail Bendixen at 907-271-2809 at least 7 working days prior to the meeting date.

Dated: October 24, 2003.
Richard W. Surdi,
Acting Director, Office of Sustainable Fisheries, National Marine Fisheries Service.

[FR Doc. E3-00142 Filed 10-29-03; 8:45 am]

BILLING CODE 3510-22-S